ENVIRONMENTAL PROTECTION AGENCY

40 CFR Part 62

[EPA-R01-OAR-52023-0305; FRL-11112-02-R1]

Approval and Promulgation of Delegation of Authority for Designated Facilities and Pollutants; New Hampshire; Delegation of Authority

AGENCY: Environmental Protection Agency (EPA).

ACTION: Final rule.

SUMMARY: The Environmental Protection Agency (EPA) is approving delegation of authority to the New Hampshire Department of Environmental Services (NHDES) for implementing and enforcing the Clean Air Act (CAA) Federal Plan Requirements for Municipal Solid Waste Landfills That Commenced Construction on or Before July 17, 2014, and Have Not Been Modified or Reconstructed Since July 17, 2014. This action amends regulatory text to promulgate the delegation of authority and is taken in accordance with the CAA.

DATES: This rule is effective on October 27, 2023.

ADDRESSES: EPA has established a docket for this action under Docket Identification No. EPA-R01-OAR-2023-0305. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that, if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Jessica Kilpatrick, Air Permits, Toxics, and Indoor Programs Branch, Air and Radiation Division, U.S. Environmental Protection Agency, Region 1, 5 Post Office Square, APTB05-2, Boston, MA 02109-0287. Telephone: 617-918-1652. Fax: 617-918-0652 Email: kilpatrick.jessica@epa.gov.

SUPPLEMENTARY INFORMATION:

Table of Contents

I. Background and Purpose

II. Final Action

III. Statutory and Executive Order Reviews

I. Background and Purpose

On July 7, 2023, EPA published a Notice of Proposed Rulemaking (NPRM), which proposed to approve delegation of authority to NHDES for implementing and enforcing the Federal Plan Requirements for Municipal Solid Waste Landfills That Commenced Construction On or Before July 17, 2014, and Have Not Been Modified or Reconstructed Since July 17, 2014, at 40 CFR part 62, subpart OOO. NHDES submitted to EPA a formal request for delegation of authority on February 6, 2023. The request letter included a memorandum of agreement (MoA) developed by NHDES and EPA, which defines the policies, responsibilities, and procedures NHDES and EPA will abide by in administering the Federal Plan requirements. The MoA was signed by the NHDES Commissioner on February 6, 2023 and the EPA Region 1 Deputy Regional Administrator on June 27, 2023. The NPRM informed the public of the MoA, provided a copy of the signed document, and proposed amending associated regulatory text for the delegation of authority. No comments were received regarding the proposed rulemaking.

This action amends regulatory text at 40 CFR part 62, subpart EE—New Hampshire to promulgate the delegation of authority for existing municipal solid waste landfills. The rationale for EPA's approval of the delegation of authority is explained in the NPRM and will not be restated here.

II. Final Action

EPA approves amending regulatory text at § 62.7405 to promulgate the delegation of authority to NHDES for implementing and enforcing the Federal Plan Requirements for Municipal Solid Waste Landfills That Commenced Construction On or Before July 17, 2014, and Have Not Been Modified or Reconstructed Since July 17, 2014, at 40 CFR part 62, subpart OOO.

III. Statutory and Executive Order Reviews

Under the CAA, the Administrator has the authority to delegate the authority to implement a 111(d)/129 Federal Plan that complies with the provisions of the CAA and applicable Federal regulations. See 40 CFR 60.27. In reviewing 111(d)/129 Federal Plan delegation requests, EPA's role is to approve state choices, provided that they meet the criteria of the CAA and of EPA's implementing regulations. Accordingly, this action merely codifies in the Code of Federal Regulations EPA's delegation of authority to implement the Federal Plan and does not impose additional requirements beyond those imposed by the already-applicable Federal Plan. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the CAA.

• Does not provide EPA with the discretionary authority to address, as appropriate, disproportionate human health or environmental effects, using practicable and legally permissible methods, under Executive Order 12898 (59 FR 7629, February 16, 1994).

In addition, this action does not apply on any Indian reservation land or in any other area where EPA or an Indian tribe has demonstrated that a tribe has jurisdiction. As such, it does not have tribal implications as specified by Executive Order 13175 (65 FR 67249, November 9, 2000), nor will it impose substantial direct costs on tribal governments or preempt tribal law.

List of Subjects in 40 CFR Part 62

Environmental protection, Administrative practice and procedure, Air pollution control, Industrial facilities, Intergovernmental relations, Methane, Reporting and recordkeeping requirements, Waste treatment and disposal.

Dated: September 18, 2023.
David Cash,
Regional Administrator, EPA Region 1.

Part 62 of chapter I, title 40 of the Code of Federal Regulations is amended as follows:

PART 62—APPROVAL AND PROMULGATION OF STATE PLANS FOR DESIGNATED FACILITIES AND POLLUTANTS

1. The authority citation for part 62 continues to read as follows:

Authority: 42 U.S.C. 7401 et seq.

Subpart EE—New Hampshire

2. Revise § 62.7405 to read as follows:

§ 62.7405 Identification of plan—delegation of authority.

(a) Letter from the New Hampshire Department of Environmental Services (NHDES), submitted February 6, 2023, requested delegation of authority from EPA to implement and enforce the Federal Plan Requirements for Municipal Solid Waste Landfills That Commenced Construction On or Before July 17, 2014, and Have Not Been Modified or Reconstructed Since July 17, 2014 (Existing MSW Landfills Federal Plan) at Subpart OOO of this part.

(b) Identification of sources. The Existing MSW Landfills Federal Plan applies to each municipal solid waste landfill that meets the following criteria:

(1) Commenced construction, reconstruction, or modification on or before July 17, 2014.

(2) Accepted waste at any time since November 8, 1987, or has additional capacity for future waste deposition.

(c) On February 6, 2023, NHDES Commissioner Robert R. Scott signed the Memorandum of Agreement Concerning the Delegation of Authority of the Federal Plan for Existing Municipal Solid Waste Landfills to the New Hampshire Department of Environmental Services by the United States Environmental Protection Agency. On June 27, 2023, Region 1 Deputy Regional Administrator Karen McGuire signed the MoA.

(d) The delegation became fully effective as of October 27, 2023.

[FR Doc. 2023-20880 Filed 9-26-23; 8:45 am]

BILLING CODE 6560-50-P